DEPARTMENT OF TRANSPORTATION

Federal Aviation Administration

14 CFR Part 39

[Docket No. FAA-2012-1319; Directorate Identifier 2012-NM-179-AD]

RIN 2120-AA64

Airworthiness Directives; the Boeing Company Airplanes

AGENCY: Federal Aviation Administration (FAA), Department of Transportation (DOT).

ACTION: Proposed rule; withdrawal.

SUMMARY: The FAA withdraws a notice of proposed rulemaking (NPRM) that proposed to revise Airworthiness Directive (AD) 2012-12-15, which applies to all The Boeing Company Model 757 airplanes. The NPRM would have corrected errors in certain paragraph references in AD 2012-12-15; continued to require revising the maintenance program by incorporating new and revised fuel tank system limitations in the Airworthiness Limitations (AWLs) section of the Instructions for Continued Airworthiness; and continued to require the initial inspection of certain repetitive AWL inspections to phase-in those inspections, and repair if necessary. Since the proposed AD was issued, we have received new data that the unsafe condition has been addressed by AD 2012-12-15, and the compliance relief that would have been provided by the proposed AD is no longer relevant. Accordingly, the proposed AD is withdrawn.

DATES: As of January 6, 2015, the proposed rule, which was published in the Federal Register on January 30, 2013 (78 FR 6247), is withdrawn.

ADDRESSES: You may examine the AD docket on the Internet at http://www.regulations.gov by searching for and locating Docket No. FAA-2012-1319; or in person at the Docket Management Facility between 9 a.m. and 5 p.m., Monday through Friday, except Federal holidays. The AD docket contains this AD action, the NPRM (78 FR 6247, January 30, 2013), the regulatory evaluation, any comments received, and other information. The address for the Docket Office (telephone 800-647-5527) is the Docket Management Facility, U.S. Department of Transportation, Docket Operations, M-30, West Building Ground Floor, Room W12-140, 1200 New Jersey Avenue SE., Washington, DC 20590.

FOR FURTHER INFORMATION CONTACT: Jon Regimbal, Aerospace Engineer, Propulsion Branch, ANM-140S, FAA, Seattle Aircraft Certification Office, 1601 Lind Avenue SW., Renton, WA 98057-3356; phone: 425-917-6506; fax: 425-917-6590; email: jon.regimbal@faa.gov.

SUPPLEMENTARY INFORMATION:

Discussion

We proposed to amend part 39 of the Federal Aviation Regulations (14 CFR part 39) with a notice of proposed rulemaking (NPRM) to revise AD 2012-12-15, Amendment 39-17095 (77 FR 42964, July 23, 2012), which applies to all The Boeing Company Model 757 airplanes. That NPRM was published in the Federal Register on January 30, 2013 (78 FR 6247). The NPRM would have corrected errors in certain paragraph references in AD 2012-12-15; continued to require revising the maintenance program by incorporating new and revised fuel tank system limitations in the AWLs section of the Instructions for Continued Airworthiness; and continued to require the initial inspection of certain repetitive AWL inspections to phase-in those inspections, and repair if necessary. The NPRM resulted from the discovery of errors in certain paragraph references in AD 2012-12-15. The proposed actions were intended to prevent the potential for ignition sources inside fuel tanks caused by latent failures, alterations, repairs, or maintenance actions, which in combination with flammable fuel vapors, could result in a fuel tank explosion and consequent loss of the airplane.

Actions Since NPRM (78 FR 6247, January 30, 2013) Was Issued

Since we issued the NPRM (78 FR 6247, January 30, 2013), commenters identified errors in the service information that was referenced in the NPRM. We reviewed those errors, considered the amount of time needed to address those errors in the service information, and re-considered the effect of the errors identified in AD 2012-12-15, Amendment 39-17095 (77 FR 42964, July 12, 2012). The identified errors in AD 2012-12-15 could have the unintended effect of implying that the grace period was 24 months after June 12, 2008 (which is the effective date of AD 2008-10-11, Amendment 39-15517 (73 FR 25974, May 8, 2008)), which is earlier than the intended 24 months after August 27, 2012 (the effective date of AD 2012-12-15). In either case, the grace period will have passed before the new, corrected AD would be effective. The compliance time relief that would have been provided by the new, corrected AD is no longer relevant, and there would be no benefit to publishing that new, corrected AD.

FAA's Conclusions

Upon further consideration, we have determined that the compliance time relief that would have been provided to operators by the NPRM (78 FR 6247, January 30, 2013) is no longer relevant. Accordingly, the NPRM is withdrawn.

Withdrawal of the NPRM (78 FR 6247, January 30, 2013), does not preclude the FAA from issuing another related action or commit the FAA to any course of action in the future.

Regulatory Impact

Since this action only withdraws an NPRM (78 FR 6247, January 30, 2013), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2012-1319, Directorate Identifier 2012-NM-179-AD, which was published in the Federal Register on January 30, 2013 (78 FR 6247).

Issued in Renton, Washington, on December 22, 2014.
Michael Kaszycki,
Acting Manager, Transport Airplane Directorate, Aircraft Certification Service.

[FR Doc. 2014-30911 Filed 1-5-15; 8:45 am]

BILLING CODE 4910-13-P